DEPARTMENT OF HOMELAND SECURITY

Coast Guard

33 CFR Part 100

[Docket No. USCG-2008-0386]

RIN 1625-AA08

Marine Events Regattas; Annual Marine Events in the Eighth Coast Guard District

AGENCY: Coast Guard, DHS.

ACTION: Notice of proposed rulemaking.

SUMMARY: The Coast Guard proposes to update the list of marine events and regattas that take place in the Eighth Coast Guard District and to change patrol requirements for these events. This update is needed to provide effective control over regattas and marine events to insure safety of life in each regatta or marine event area.

DATES: Comments and related material must reach the Coast Guard on or before August 15, 2008.

ADDRESSES: You may submit comments identified by Coast Guard docket number USCG-2008-0386 to the Docket Management Facility at the U.S. Department of Transportation. To avoid duplication, please use only one of the following methods:

(1) Online: http://www.regulations.gov.

(2) Mail: Docket Management Facility (M-30), U.S. Department of Transportation, West Building Ground Floor, Room W12-140, 1200 New Jersey Avenue, SE., Washington, DC 20590-0001.

(3) Hand delivery: Room W12-140 on the Ground Floor of the West Building, 1200 New Jersey Avenue, SE., Washington, DC 20590, between 9 a.m. and 5 p.m., Monday through Friday, except Federal holidays. The telephone number is 202-366-9329.

(4) Fax: 202-493-2251.

FOR FURTHER INFORMATION CONTACT: If you have questions on this proposed rule call CDR John Arenstam, Eighth Coast Guard District Prevention Division, (504) 671-2109 or e-mail, John.J.Arenstam@uscg.mil. If you have questions on viewing or submitting material to the docket, call Renee V. Wright, Program Manager, Docket Operations, telephone 202-366-9826.

Public Participation and Request for Comments

We encourage you to participate in this rulemaking by submitting comments and related materials. All comments received will be posted, without change, to http://www.regulations.gov and will include any personal information you have provided. We have an agreement with the Department of Transportation (DOT) to use the Docket Management Facility. Please see DOT's “Privacy Act” paragraph below.

Submitting Comments

If you submit a comment, please include the docket number for this rulemaking USCG-2008-0386, indicate the specific section of this document to which each comment applies, and give the reason for each comment. We recommend that you include your name and a mailing address, an e-mail address, or a phone number in the body of your document so that we can contact you if we have questions regarding your submission. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like to know that they reached the Facility, please enclose a stamped, self-addressed postcard or envelope. We will consider all comments and material received during the comment period. We may change this proposed rule in view of them.

Viewing Comments and Documents

To view comments, as well as documents mentioned in this preamble as being available in the docket, go to http://www.regulations.gov at any time. Enter the docket number for this rulemaking (USCG-2008-0386) in the Search box, and click “Go >>.” You may also visit either the Docket Management Facility in Room W12-140 on the ground floor of the DOT West Building, 1200 New Jersey Avenue, SE., Washington, DC 20590, between 9 a.m. and 5 p.m., Monday through Friday, except Federal holidays; or the Eighth Coast Guard District (dpw), Hale Boggs Federal Building, 500 Poydras Street, Room 1230, New Orleans, LA 70130, between 8 a.m. and 3:30 p.m., Monday through Friday, except Federal holidays.

Privacy Act

Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://DocketsInfo.dot.gov.

Public Meeting

We do not now plan to hold a public meeting. But you may submit a request for one to the Docket Management Facility at the address under ADDRESSES explaining why one would be beneficial. If we determine that one would aid this rulemaking, we will hold one at a time and place announced by a later notice in the Federal Register.

Background and Purpose

33 CFR part 100 provides regulations to provide effective control over regattas and marine parades conducted on U.S. navigable waters to insure safety of life in the regattas or marine parade area. Section 100.801 regulates events that take place in the Eighth Coast Guard District. This section needs to be updated because the Coast Guard has reorganized Coast Guard Group Offices and Marine Safety Offices into Coast Guard Sector Commands and the events listed in Table 1 of § 100.801 need to be revised to reflect current events.

The Coast Guard also proposes to modify Coast Guard patrol requirements for Eighth Coast Guard regattas and marine parades. Section 100.801(a) requires the Coast Guard to patrol marine events in the Eighth Coast Guard District. The Coast Guard feels that not all events require Coast Guard patrols and therefore proposes to leave this at the discretion of the local Coast Guard Captain of the Port.

Discussion of Proposed Rule

This proposed rule would update § 100.801 Table 1 and list regattas and marine parades in the Eighth Coast Guard District by Coast Guard Sector Commands vice Coast Guard Groups Offices. It would also change § 100.801(a) to allow the local Coast Guard Captain of the Port to establish Coast Guard patrol requirements.

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary.

The proposed regattas and marine parades listed in this rule will restrict vessel traffic from transiting certain areas of Eighth Coast Guard District waters; however the effect of this regulation will not be significant because these events are short duration and the special local regulation governing vessel movements and restrictions are also short duration. Additionally, the public is given advance notification through the Federal Register and thus will be able to plan operations around the event in advance.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. This proposed rule would affect the following entities, some of which might be small entities: the owners or operators of vessels intending to transit the regulated area during the regattas or marine parade.

The special local regulations would not have a significant economic impact on a substantial number of small entities for the following reasons. This rule would be in effect for short periods of times and vessel traffic could pass safely around the regulated area or through the regulated area with permission of the patrol commander. And before the effective period, the Coast Guard Captain of the Port would issue maritime advisories widely available to users of the river.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact CDR John Arenstam, Eighth Coast Guard District (dpw), 500 Poydras Street, New Orleans, LA 70003, (504) 671-2109, e-mail John.J.Arenstam@uscg.mil. The Coast Guard will not retaliate against small entities that question or complain about this rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD which guide the Coast Guard in complying with the National Environmental Policy Act of 1969 (NEPA)(42 U.S.C. 4321-4370f), and have made a preliminary determination that this action is not likely to have a significant effect on the human environment. This rule carries out maritime safety and is not likely to have any significant effects on public health and the environment. We have also concluded that there are no factors in this case that would limit the use of categorical exclusion under section 2.B.2 of the Instruction. Therefore, this rule is categorically excluded, under figure 2-1, paragraph (34)(h), of the instruction, from further environmental documentation because this rule is not expected to result in any significant environmental impact as described in NEPA.

Under figure 2-1, paragraph (34)(h), of the Instruction, an “Environmental Analysis Check List” and a “Categorical Exclusion Determination” are not required for this rule. We seek any comments or information that may lead to the discovery of a significant environmental impact form this proposed rule.

List of Subjects in 33 CFR Part 100

Marine safety, Navigation (water), Reporting and recordkeeping requirements, and Waterways.

For the reasons discussed in the preamble, the Coast Guard proposes to amend 33 CFR part 100 as follows:

PART 100—REGATTAS AND MARINE PARADES

1. The authority citation for part 100 continues to read as follows:

Authority: 33 U.S.C. 1233.

2. Amend § 100.801 by revising paragraph (a) and table 1 to read as follows:

§ 100.801 Annual Marine Events in the Eighth Coast Guard District.

* * * * *

(a) The Coast Guard may patrol the event area under the direction of a designated Coast Guard Patrol Commander. The Patrol Commander may be contacted on Channel 16 VHF-FM (156.8 MHz) by the call sign “PATCOM.”

* * * * *

Table 1 of § 100.801—Eighth Coast Guard District Table Of Annual Marine Events

I. Sector Ohio Valley

1. WEBN/Riverfest Fireworks

Sponsor: WEBN.

Date: 1 Day—Sunday before Labor Day.

Regulated Area: Ohio River 469.2-470.5, Cincinnati, OH.

2. Aurora Thunder Regatta

Sponsor: Aurora Riverfront Beautification Committee.

Date: Last weekend in August.

Regulated Area: Ohio River, at approximately mile 496.0-499.0, mid-channel, Aurora, IN.

3. Ohio River Way Paddlefest

Sponsor: Ohio River Way (Paddlefest).

Date: Last weekend in June.

Regulated Area: Ohio River Miles 461.5—470.5, Cincinnati, OH.

4. Thunder Over Louisville.

Sponsor: Thunder Over Louisville.

Date: 5 Days—2nd half of April.

Regulated Area: Ohio River miles 602.0-606.0, Louisville, KY.

5. Kentucky Derby Festival Great Steamboat Race

Sponsor: Kentucky Derby Festival/Belle of Louisville Operating Board.

Date: 1 Day—Last Week in April or First Week in May.

Regulated Area: Ohio River 596.0-604.3, Louisville, KY.

6. Thunder on the Ohio

Sponsor: Evansville Freedom Festival.

Date: 6 Days—Last Week in June and First Week in July.

Regulated Area: Ohio River miles 791.0-795.0, Evansville, IN.

7. Indiana Governor's Cup

Sponsor: Madison Regatta Inc.

Date: 4 Days—1st Weekend in July.

Regulated Area: Ohio River miles 555.0-560.0, Madison, IN.

8. Kentucky Drag Boat Association Inc.: Drag Boat Races

Sponsor: Kentucky Drag Boat Association Inc.

Date: 3 Days—2nd half of August.

Regulated Area: Green River miles 70.0-71.5, Livermore, KY.

9. Ducks on the Ohio

Sponsor: Goodwill Industries, Inc.

Date: 1 Day—2nd half of August or September.

Regulated Area: Ohio River miles 791.5-793.5, Evansville, IN.

10. Clarksville Riverfest—Wakeboard Contest, Regatta, Fireworks

Sponsor: City of Clarksville, TN.

Date: 2nd Weekend in September.

Regulated Area: Mile Marker 125-126 Cumberland River.

11. Spirit of Freedom Fireworks Florence, TN—Fireworks

Sponsor: Urban Broadcasting.

Date: 4th of July.

Regulated Area: Mile Marker 255 to 257 Tennessee River.

12. Lake Guntersville 4th of July Celebration—Fireworks.

Sponsor: Lake Guntersville, AL Chamber of Commerce.

Date: 4th of July.

Regulated Area: Mile Marker 356 to 358 Tennessee River.

13. The Great Kiwanis Duck Race—Rubber Duck Regatta

Sponsor: Kiwanis Club of Chattanooga, TN.

Date: 3rd Weekend in June.

Regulated Area: Mile Marker 463 to 464 Tennessee River.

14. Chattanooga Dragon Boat Festival—Rowing Race

Sponsor: Dynamic Events and Management.

Date: 1st Weekend in August.

Regulated Area: Mile Marker 463 to 464 Tennessee River.

15. Pickwick Challenge—Powerboat Race

Sponsor: Pickwick Challenge, LLC.

Date: 1st Weekend in May.

Regulated Area: Mile Marker 206 to 210 Tennessee River.

16. Lighting Up the Cumberland—Fireworks

Sponsor: Town of Cumberland City, TN.

Date: 1st Saturday prior to 4th of July or on 4th of July if day is a Saturday.

Regulated Area: Mile Marker 103 to 105 Cumberland River.

17. Knoxville Dragon Boat Races—Rowing Race

Sponsor: Dynamic Events & Management.

Date: 4th Weekend in August.

Regulated Area: Mile Marker 647 to 648 Tennessee River.

18. Marietta Invitational Rowing Regatta

Sponsor: Marietta High School.

Date: 1 Day—2nd or 3rd weekend in April.

Regulated Area: Muskingum River Mile 0.5 to 1.5, Marietta, OH.

19. West Virginia Governor's Cup Regatta

Sponsor: University of Charleston.

Date: 1 Day—2nd or 3rd weekend in April.

Regulated Area: Kanawha River Mile 59.5 to 62.0, Charleston, WV.

20. Point Pleasant Sternwheel Regatta

Sponsor: City of Point Pleasant.

Date: 3 Days—1st or 2nd weekend in July.

Regulated Area: Ohio River Mile 265.0 to 266.0, Point Pleasant, WV.

21. Charleston 4th of July Celebration

Sponsor: City of Charleston.

Date: 2 Days—1st week in July.

Regulated Area: Kanawha River Mile 57.5 to 59, Charleston, WV.

22. Summer Motion

Sponsor: Summer Motion Inc.

Date: 3 Days—first week in July.

Regulated Area: Ohio River Mile 321.6 to 323.3.

23. Marietta Riverfront Roar Tunnel Boat Races

Sponsor: Marietta Riverfront Roar.

Date: 2 Days—2nd or 3rd weekend in July.

Regulated Area: Ohio River Mile 171.5 to 172.5, Marietta, OH.

24. Dawg Dazzle Fireworks Spectacular

Sponsor: Big Sandy Superstore Arena.

Date: 1 Day—1st week in July.

Regulated Area: Ohio River Mile 307.8 to 308.8, Huntington, WV.

25. Brundage Memorial Regatta

Sponsor: Brundage Regatta Committee.

Date: 1 Day—3rd or 4th weekend in May.

Regulated Area: Ohio River Mile 182.5 to 183.5.

26. St. Mary Medical Center Foundation Gala

Sponsor: St. Mary Medical Center Foundation.

Date: 1 Day—2nd or 3rd weekend in May.

Regulated Area: Ohio River Mile 307.8 to 308.8.

27. Dragon Boat Festival

Sponsor: Three Rivers Rowing Association.

Date: Middle of September.

Regulated Area: Monongahela River Miles 0.3, Pittsburgh, PA.

28. Pirates Fireworks

Sponsor: Pittsburgh Pirates.

Date: 3rd or 4th Friday of the month from April to September.

Regulated Area: Allegheny River Miles 0.4 to 0.6, Pittsburgh, PA.

29. Wheeling Vintage Regatta

Sponsor: Wheeling Vintage Race Boat Association.

Date: First week in September.

Regulated Area: Ohio River Miles 90.4 to 91.5, Wheeling, WV.

II. Sector Upper Mississippi River

1. Hudson Hot Air Affair

Sponsor: Hudson Hot Air Affair, Inc.

Dates: 1 day—1st Friday in February.

Regulated Area: St. Croix River mile 016.7.

2. Winter Carnival—Comcast Fireworks

Sponsor: St. Paul Festival and Heritage Foundation.

Dates: 1 day—1st Saturday in February.

Regulated Area: Upper Mississippi River miles 840.5-841.0.

3. St. Patrick's Water Parade

Sponsor: Lake West Chamber of Commerce.

Dates: 1 day—3rd Saturday in March.

Regulated Area: Lake of the Ozarks mile 013.0.

4. Deke Slayton Airfest, LaCrosse

Sponsor: Deke Slayton Airfest.

Dates: 3 days—3rd week in May.

Regulated Area: Upper Mississippi River mile 703.0.

5. That Was Then, This Is Now Boat Show & Exhibition

Sponsor: Clear Lake Chapter of the ACBS.

Dates: 1 day—3rd Saturday in May.

Regulated Area: Upper Mississippi River mile 454.0-456.0.

6. Tan-Tar-A Memorial Day Fireworks

Sponsor: Tan-Tar-A Resort.

Dates: 1 day—Last Sunday in May.

Regulated Area: Lake of the Ozarks mile 026.0.

7. Lodge of the Four Seasons Memorial Day

Sponsor: Lodge of the Four Seasons.

Dates: 1 day—Last Sunday in May.

Regulated Area: Lake of the Ozarks mile 014.0.

8. Steamboat Sports Festival

Sponsor: Peoria Area Community Events.

Dates: 2 day—2nd weekend in June.

Regulated Area: Illinois River mile 162.3-163.7.

9. Burlington Steamboat Days

Sponsor: Burlington Steamboat Days.

Dates: 1 day—3rd Sunday in June.

Regulated Area: Upper Mississippi River mile 404.0.

10. Winona Steamboat Days Fireworks

Sponsor: Winona Steamboat Days Festival.

Dates: 1 day—3rd Sunday in June.

Regulated Area: Upper Mississippi River miles 725.4-725.7.

11. Taste of the Quad Cities

Sponsor: Taste of the Quad Cities.

Dates: 1 day—2nd Friday in June.

Regulated Area: Upper Mississippi River mile 485.2.

12. Great Rivers Towboat Festival

Sponsor: Great Rivers Towboat Festival.

Dates: 2 day—3rd Weekend in June.

Regulated Area: Illinois River mile 000.2.

13. Water Ski Days

Sponsor: Lake City Chamber of Commerce.

Dates: 2 day—3rd Weekend in June.

Regulated Area: Upper Mississippi River miles 772.4-772.8.

14. Taste of Minnesota

Sponsor: Taste of Minnesota.

Dates: 5 day—Last week in June/ First week in July.

Regulated Area: Upper Mississippi River mile 840.0.

15. Sioux City Big Parade

Sponsor: City of Sioux City.

Dates: 1 day—Last weekend in June.

Regulated Area: Missouri River mile 732.0.

16. KC Riverfest

Sponsor: For—KC, Inc.

Dates: 1 day—Last weekend in June/ First weekend in July.

Regulated Area: Missouri River mile 365.0.

17. Bellevue Heritage Days

Sponsor: Bellevue Heritage Days.

Dates: 1 day—Last weekend in June/ First weekend in July.

Regulated Area: Upper Mississippi River miles 556.6-557.0.

18. Hudson Booster Days

Sponsor: Hudson Boosters.

Dates: 1 day—Last weekend in June/ First weekend in July.

Regulated Area: St. Croix River mile 017.0.

19. 3rd Annual Dosh River Rally

Sponsor: Village of Meredosia.

Dates: 1 day—First weekend in July.

Regulated Area: Illinois River mile 072.1.

20. Mississippi Fireworks Festival

Sponsor: Alton Exposition Commission.

Dates: 1 day—3rd or 4th of July.

Regulated Area: Upper Mississippi River miles 202.5-203.0.

21. Radio Dubuque

Sponsor: Radio Dubuque.

Dates: 1 day—3rd or 4th of July.

Regulated Area: Upper Mississippi River miles 581.2-583.0.

22. Omaha World Herald Fireworks

Sponsor: Omaha Royals.

Dates: 1 day—3rd or 4th of July.

Regulated Area: Missouri River miles 612.1-613.9.

23. Riverfest 2007—St. Charles

Sponsor: City of St. Charles.

Dates: 2 day—3rd or 4th of July.

Regulated Area: Missouri River miles 028.2-028.8.

24. Red White and Boom

Sponsor: Davenport One Chamber.

Dates: 1 day—3rd or 4th of July.

Regulated Area: Upper Mississippi River mile 482.5.

25. Fair of St. Louis

Sponsor: Fair St. Louis.

Dates: 2 day—Between the 1st and 4th of July.

Regulated Area: Upper Mississippi River miles 179.2-180.0.

26. Louisiana July 4th Fireworks

Sponsor: Louisiana Chamber of Commerce.

Dates: 1 day—4th of July.

Regulated Area: Upper Mississippi River miles 282.0-283.0.

27. John E. Curran Fireworks

Sponsor: John E. Curran.

Dates: 1 day—3rd or 4th of July.

Regulated Area: Lake of the Ozarks mile 009.0.

28. Nauvoo 4th of July

Sponsor: Nauvoo Chamber of Commerce.

Dates: 1 day—4th of July.

Regulated Area: Upper Mississippi River miles 375.0-376.0.

29. Red White and Boom Peoria

Sponsor: JMP Radio.

Dates: 1 day—4th of July.

Regulated Area: Illinois River miles 162.5-162.1.

30. Stillwater 4th of July

Sponsor: City of Stillwater/St. Croix Events.

Dates: 1 day—4th of July.

Regulated Area: St. Croix River miles 022.9-023.5.

31. Minneiska 4th of July

Sponsor: City of Minneiska.

Dates: 1 day—4th of July.

Regulated Area: Upper Mississippi River mile 743.0.

32. Fort Madison 4th of July

Sponsor: City of Fort Madison.

Dates: 1 day—4th of July.

Regulated Area: Upper Mississippi River mile 383.0-384.0.

33. Lake City 4th of July Fireworks

Sponsor: Lake City Chamber of Commerce.

Dates: 1 day—4th of July.

Regulated Area: Upper Mississippi River miles 772.4-772.8.

34. Hermann 4th of July

Sponsor: Hermann Chamber of Commerce

Dates: 1 day—4th of July.

Regulated Area: Missouri River mile 098.5.

35. Muscatine 4th of July

Sponsor: Greater Muscatine Chamber of Commerce.

Dates: 1 day—4th of July.

Regulated Area: Upper Mississippi River miles 455.0-456.0.

36. National Tom Sawyer Days

Sponsor: Hannibal JayCees.

Dates: 1 day—4th of July.

Regulated Area: Upper Mississippi River miles 308.0-309.0.

37. Mike Herrington Fireworks

Sponsor: Mike Herrington.

Dates: 1 day—4th of July.

Regulated Area: Lake of the Ozarks mile 002.0.

38. Riverfest, La Crosse

Sponsor: Riverfest, Inc.

Dates: 4 days—1st or 2nd week of July.

Regulated Area: Upper Mississippi River mile 698.0.

39. Salute to America

Sponsor: Salute to America Foundation, Inc.

Dates: 1 day—4th of July.

Regulated Area: Missouri River miles 143.0-143.5.

40. Grafton Chamber 4th of July Fireworks

Sponsor: Grafton Chamber of Commerce.

Dates: 1 day—4th of July.

Regulated Area: Illinois River mile 001.0.

41. Parkville 4th of July Fireworks

Sponsor: Main Street Parkville Assoc.

Dates: 1 day—4th of July.

Regulated Area: Missouri River mile 377.7.

42. Harrah's Fireworks Extravaganza

Sponsor: Harrah's Casino and Hotel.

Dates: 1 day—4th of July.

Regulated Area: Missouri River mile 615.3.

43. Hooligan Bay Fireworks Display

Sponsor: Hooligan Bay Resort.

Dates: 1 day—4th of July.

Regulated Area: Lake of the Ozarks mile 038.0.

44. Tan-Tar-A 4th of July Fireworks

Sponsor: Tan-Tar-A Resort.

Dates: 1 day—4th of July.

Regulated Area: Lake of the Ozarks mile 026.0.

45. Red, White and Boom Minneapolis

Sponsor: Minneapolis Park and Recreation Board.

Dates: 1 day—4th of July.

Regulated Area: Upper Mississippi River mile 854.0.

46. Chillicothe 4th of July

Sponsor: Chillicothe 4th of July.

Dates: 1 day—4th of July.

Regulated Area: Illinois River mile 179.1-180.1.

47. Lodge of the Four Seasons 4th of July

Sponsor: Lodge of the Four Seasons.

Dates: 1 day—4th of July.

Regulated Area: Lake of the Ozarks mile 014.0.

48. Gravois Mills Fireworks

Sponsor: Town of Gravois.

Dates: 1 day—1st week of July.

Regulated Area: Lake of the Ozarks mile 010.0.

49. Live on the Levee

Sponsor: Fair St. Louis.

Dates: Friday and Saturday, every weekend from the 2nd week of July until 2nd week in August.

Regulated Area: Upper Mississippi River miles 179.2-180.0.

50. Prairie du Chien Area Chamber Fireworks

Sponsor: Prairie du Chien Area Chamber of Commerce.

Dates: 1 day—2nd weekend of July.

Regulated Area: Upper Mississippi River mile 634.0.

51. Clinton Riverboat Days

Sponsor: Clinton Riverboat Days.

Dates: 2 days—2nd weekend of July.

Regulated Area: Upper Mississippi River miles 518.0-519.0.

52. Stars and Stripes River Day

Sponsor: Naturally Guttenberg.

Dates: 1 day—2nd weekend of July.

Regulated Area: Upper Mississippi River mile 615.0.

53. Sioux City Rivercade

Sponsor: Rivercade Association.

Dates: 1 day—3rd week of July.

Regulated Area: Missouri River mile 732.2.

54. Lumberjack Days

Sponsor: St. Croix Events.

Dates: 4 days—3rd week of July.

Regulated Area: St. Croix River miles 022.9-028.5.

55. Prairie Air Show

Sponsor: Prairie Airshow, Inc.

Dates: 1 day—2nd weekend of July.

Regulated Area: Illinois River mile 162.0.

56. Aquatennial Power Boat Grand Prix

Sponsor: Champboat Series LLC.

Dates: 2 days—3rd weekend of July.

Regulated Area: Upper Mississippi River miles 854.8-855.8.

57. Target Aquatennial Fireworks

Sponsor: Marketing Minneapolis, LLC.

Dates: 1 day—3rd weekend of July.

Regulated Area: Upper Mississippi River miles 853.2-854.2.

58. Rivertown Days

Sponsor: Hasting Riverboat Days.

Dates: 2 days—3rd weekend of July.

Regulated Area: Upper Mississippi River miles 812.0-815.3.

59. Cassville Twin-o-Rama

Sponsor: Cassville Twin-O-Rama.

Dates: 1 day—3rd weekend of July.

Regulated Area: Upper Mississippi River mile 606.5.

60. Amelia Earhart Festival

Sponsor: Amelia Earhart Festival Committee.

Dates: 2 days—3rd weekend of July.

Regulated Area: Missouri River miles 422.0-424.5.

61. River City Days

Sponsor: River City Days Association.

Dates: 2 days—1st week of August.

Regulated Area: Upper Mississippi River mile 791.6.

62. New Piasa Chautaqua

Sponsor: New Piasa Chautaqua

Dates: 1 day—1st weekend of August.

Regulated Area: Upper Mississippi River mile 215.0.

63. Great River Tug

Sponsor: Tug Committee.

Dates: 2 day—2nd weekend of August.

Regulated Area: Upper Mississippi River miles 497.2-497.6.

64. Evansville Day Drag Boat Race

Sponsor: St. Louis Drag Boat Association.

Dates: 2 day—2nd weekend of August.

Regulated Area: Kaskaskia River mile 010.0-011.0.

65. Lansing Fish Days

Sponsor: Lansing Lions Club.

Dates: 2 day—2nd weekend of August.

Regulated Area: Upper Mississippi River mile 662.5-663.8.

66. Lake Rescue Shoot Out

Sponsor: Lake Rescue Shoot Out INC.

Dates: 2 day—4th weekend of August.

Regulated Area: Lake of the Ozarks mile 021.0-023.0.

67. Tan-Tar-A Fireworks

Sponsor: Tan-Tar-A Resort.

Dates: 1 day—1st weekend of September.

Regulated Area: Lake of the Ozarks mile 026.0.

68. Mike Herrington Labor Day Fireworks

Sponsor: Mike Herrington.

Dates: 1 day—1st weekend of September.

Regulated Area: Lake of the Ozarks mile 002.0.

69. Lodge of the Four Seasons

Sponsor: Lodge of the Four Seasons.

Dates: 1 day—1st weekend of September.

Regulated Area: Lake of the Ozarks mile 014.0.

70. First City Festival

Sponsor: Leavenworth Main Street Program.

Dates: 2 day—2nd weekend of September.

Regulated Area: Missouri River mile 397.0-398.0.

71. Rodeo Cup XXVI

Sponsor: Old Fort Yacht Club.

Dates: 1 day—2nd weekend of September.

Regulated Area: Upper Mississippi River mile 374.0-375.0.

72. New Athens Drag Boat Race

Sponsor: St. Louis Drag Boat Association.

Dates: 2 day—2nd weekend of September.

Regulated Area: Kaskaskia River mile 028.0-029.0.

73. Riverfest 2007

Sponsor: Riverside Riverfest Committee.

Dates: 2 day—3rd weekend of September.

Regulated Area: Missouri River mile 371.1-371.3.

74. Railroad Days

Sponsor: Marquette Action Club.

Dates: 1 day—3rd weekend of September.

Regulated Area: Upper Mississippi River mile 634.5.

75. Missouri Governor's Cup

Sponsor: Valley Sailing Club.

Dates: 2 day—1st weekend of October.

Regulated Area: Upper Mississippi River mile 211.0-212.0.

III. Sector Lower Mississippi River

1. Memphis in May Canoe & Kayak Race

Sponsor: Outdoors, Inc.

Date: 1 Day—1st or 2nd Saturday in May.

Regulated Area: Lower Mississippi River miles 735.5-738.5, Memphis, TN.

2. Memphis in May Sunset Symphony Fireworks Display

Sponsor: Memphis in May International Festival, Inc.

Date: 1 Day—Saturday before Memorial Day.

Regulated Area: Lower Mississippi River miles 735.0-736.0, Memphis, TN.

3. Riverfest, Little Rock, Arkansas

Sponsor: Riverfest, Inc.

Date: 1 Day—Sunday before Memorial Day.

Regulated Area: Arkansas River miles 118.8-119.5, Main Street Bridge, Little Rock, AR.

4. Riverfest Fireworks Display

Sponsor: Old Fort Riverfest Committee.

Date: 1 Day—2nd or 3rd Saturday in June.

Regulated Area: Arkansas River miles 297.0-298.0, Fort Smith, AR.

5. Fourth of July Fireworks

Sponsor: Memphis Center City Commission.

Date: 1 Day—4th of July.

Regulated Area: Lower Mississippi River miles 735.5-736.5, Mud Island, Memphis, TN.

6. Pops on the River Fireworks Display

Sponsor: Arkansas Democrat-Gazette.

Date: 1 Day—4th of July.

Regulated Area: Arkansas River miles 118.8-119.5, Main Street Bridge, Little Rock, AR.

7. Uncle Sam Jam Fireworks, Alexandria, LA

Sponsor: Champion Broadcasting of Alexandria.

Date: 1 Day—4th of July.

Regulated Area: Red River, miles 83.0-87.0, Alexandria, LA.

IV. Sector Corpus Christi

1. Buccaneer Days Fireworks Display

Sponsor: Buccaneer Commission, Inc.

Date: 1 Day—3rd or 4th Friday in April.

Regulated Area: Bayfront, all waters inside Corpus Christi Marina Levee, Corpus Christi Bay, TX.

2. Corpus Christi 4th of July Fireworks Display

Sponsor: Buccaneer Commission, Inc.

Date: 1 day—July 4.

Regulated Area: Bayfront, all waters inside Corpus Christi Marina Levee, Corpus Christi Bay, TX.

3. City of Port Aransas 4th of July Fireworks Display

Sponsor: City of Port Aransas.

Date: 1 day—July 4.

Regulated Area: 600 foot radius from point halfway between Port Aransas Harbor Daybeacon 2 to Port Aransas Ferry Landing in the Corpus Christi Ship Channel, Port Aransas, TX.

4. Bayfest Fireworks Display

Sponsor: Bayfest, Inc.

Date: 1 day—Last Saturday in September.

Regulated Area: Bayfront, all waters inside Corpus Christi Marina Levee, Corpus Christi Bay, TX.

5. Harbor Lights

Sponsor: City of Corpus Christi.

Date: 1 day—1st Saturday in December.

Regulated Area: Bayfront, all waters inside Corpus Christi Marina Levee, Corpus Christi Bay, TX.

6. Wendell Family Fireworks

Sponsor: City of Rockport.

Date: 1 day—July 4.

Regulated Area: 700 foot radius at the northeast point of Rockport Beach Park.

V. Sector Houston-Galveston

1. Port Arthur Fourth of July Fireworks Demonstration, Port Arthur, TX

Sponsor: The City of Port Arthur and Lamar State College.

Date: 1 Day—4th of July.

Regulated Area: All waters of the Sabine-Neches Canal, bank to bank, from Wilson Middle School to the northern terminus of Old Golf Course Road.

2. Neches River Festival and Fireworks, Beaumont, TX

Sponsor: Port Neches Chamber of Commerce.

Date: 2 Days—2nd or 3rd Weekend in May.

Regulated Area: Adjacent to Port Neches between the northern boundary at 30°00′00″ N and the southern boundary at 29°59′42″ N.

3. Contraband Days Fireworks Display

Sponsor: Contraband Days Festivities, Inc.

Date: 1 Day—2nd Saturday of May.

Regulated Area: 500 foot radius from the fireworks barge in Lake Charles anchored at approximate position 30°13′5 ″ N, 093°13′42″ W Lake Charles, LA.

4. Neches River 4th of July Celebration

Sponsor: City of Beaumont.

Date: 1 Day—4th of July.

Regulated Area: River Front Park, Beaumont, TX—All waters of the Neches River, bank to bank, from the Trinity Industries Dry Dock to the northeast corner of the Port of Beaumont's dock No. 5.

5. National Safe Boating Week

Sponsor: Houston Power Squadron.

Date: Last weekend in May or first weekend in June.

Regulated Area: Clear Creek Channel from Light 2 up to, but not including, the South Shore Harbor Marina.

6. Sylvan Beach Fireworks Display, Sylvan Beach, Houston, TX

Sponsor: City of LaPorte.

Date: 1 Day—End of June or early July.

Regulated Area: Rectangle extending 250 feet East, 250 feet West; 1000 feet North, and 1000 feet South, centered around fireworks barge at Sylvan Beach, Houston, TX.

7. Clear Lake Fireworks Display, Clear Lake, Houston, TX

Sponsor: Clear Lake Chamber of Commerce.

Date: 1 Day—4th of July.

Regulated Area: Rectangle extending 500 feet East, 500 feet West; 1000 feet North, and 1000 feet South, centered around fireworks barge at Light 19 on Clear Lake, Houston, TX.

8. Blessing of the Fleet

Sponsor: Clear Lake Elks Club.

Date: First Sunday in August.

Regulated Area: Clear Creek Channel from Light 2 up to, but not including, the South Shore Harbor Marina.

9. Galveston Harbor Lighted Boat Parade

Sponsor: Historic Downtown/Strand Partnership.

Date: Last Saturday in November.

Regulated Area: Galveston Channel from Pier 9 to the Pelican Island Bridge.

10. Christmas Boat Parade on Clear Lake

Sponsor: Clear Lake Area Chamber of Commerce.

Date: 2nd Saturday in December.

Regulated Area: Clear Lake, Texas. From South Shore Harbor Marina down Clear Lake Channel, to Clear Creek Channel Light 2.

11. Kemah Board Walk Summer Season Fireworks Display, Kemah, TX

Sponsor: Kemah Boardwalk.

Date: Friday nights in June and July including July 4.

Regulated Area: Clear Creek Channel including a 840 ft radius centered around fireworks barge on south side of channel, 100 ft off Kemah Boardwalk, Galveston, TX.

VI. Sector New Orleans

1. Rivertown Christmas Festival

Sponsor: City of Port Allen.

Date: 1 Day—3rd Saturday in December.

Regulated Area: Located on Levee Batture, in vicinity of Old Ferry Landing, all waters of the Lower Mississippi River from mile marker 230-231, extending the entire width of the river.

2. Donaldsonville Fireworks Display

Sponsor: Donaldsonville Tourism Commission.

Date: 1 Day—31 December.

Regulated Area: located on the Levee Batture, all waters of the Lower Mississippi River from mile marker 175-176, extending the entire width of the river.

3. New Orleans New Years Eve

Sponsor: Mardi Gras World, INC.

Date: 1 Day—31 December.

Regulated Area: In vicinity of Jackson Square, all waters of the Lower Mississippi River from mile marker 94 to 95, extending the entire width of the river.

4. Lundi Gras River Parade and Fireworks Display

Sponsor: (King REX and King ZULU) New Orleans RiverWalk Mktg. Group and ZULU Social Aid and Pleasure Club.

Date: 1 Day—LUNDI GRAS DAY.

Regulated Area: Delivery of King Rex to Spanish Plaza and King ZULU to Woldenburg Park, all waters of the Lower Mississippi River from mile marker 93 to 96, extending the entire width of the river New Orleans, LA.

5. Independence Day Celebration

Sponsor: Saint John the Baptist Parish.

Date: 1 Day—3 July.

Regulated Area: In vicinity of Saint Peters Church Reserve, LA. All waters of the Lower Mississippi River, from mile marker 138.5-139.5, extending the entire width of the river.

6. Donaldsonville Fireworks Display

Sponsor: Donaldsonville Tourism Commission.

Date: 1 Day—03 July.

Regulated Area: In the vicinity of Crescent Park Donaldsonville, LA. All waters of the Lower Mississippi River, from mile marker 175-176, extending the entire width of the river.

7. Independence Day Celebration

Sponsor: Saint Charles Parish Fireworks.

Date: 1 Day—03 July.

Regulated Area: Levee Batture, in the vicinity of I-310 Bridge Luling, LA. All waters of the Lower Mississippi River, from mile marker 121—122, extending the entire width of the river.

8. Independence Day Celebration (Dueling Barges)

Sponsor: Riverfront Marketing Group.

Date: 1 Day—04 July.

Regulated Area: In vicinity of Jackson Square and Spanish Plaza. All waters of Lower Mississippi River from mile marker 94.3-95.3, extending the entire width of the river.

9. Independence Day Celebration

Sponsor: WBRZ-TV, Baton Rouge, LA.

Date: 1 Day—04 July.

Regulated Area: In the vicinity of the USS KIDD, All waters of Lower Mississippi River, from mile marker 228.8-229.8, extending the entire width of the river.

10. Fourth of July Star-Spangled Celebration

Sponsor: USS KIDD Veterans Memorial Baton Rouge, LA.

Date: 1 Day—04 July.

Regulated Area: In the vicinity of 305 South River Road Baton Rouge, LA. All waters of the Lower Mississippi River, from mile marker 229.4-230, extending the entire width of the river.

11. Independence Day Celebration

Sponsor: Boomtown Casino.

Date: 1 Day—04 July.

Regulated Area: In the vicinity of Boomtown Casino, Harvey Canal from mile marker 4-5, extending the entire width of the canal.

12. Independence Day Celebration

Sponsor: City of Morgan City.

Date: 1 Day—04 July.

Regulated Area: Morgan City Port Allen Route mile marker 4-5.

13. LA Shrimp and Petroleum Festival & Fair Association

Sponsor: City of Morgan City.

Date: 1 Day—1st Sunday in September.

Regulated Area: Between Berwick Bay Southern Pacific Railroad Bridge and ¼ mile past HWY 182 Bridge on the Lower Atchafalaya River and Berwick Bay.

VII. Sector Mobile

1. Seroma's 4th of July

Sponsor: Seroma's 4th of July.

Date: 1 Day—July 4th.

Regulated Area: 100 feet east of Pitt's Slip, Pensacola Bay, Pensacola, FL.

2. South Georgia Showdown

Sponsor: Flint River Racers.

Date: 1 Day—Last Weekend in August, or First Weekend in September.

Regulated Area: South of Earl Maye Boat Basin, Flint River, Bainbridge, GA.

3. Thunder on the Gulf

Sponsor: Gulf Coast Power Boat Association.

Date: 2 Days—3rd weekend in August.

Regulated Area: Gulf of Mexico, Orange Beach, FL. e Beach, AL.

4. GYA Challenge Cup

Sponsor: Pensacola Yacht Club.

Date: 1 Day—4th weekend in June.

Regulated Area: Pensacola Bay, Pensacola, FL.

5. Christmas on the River

Sponsor: Demopolis Chamber of Commerce.

Date: 1 Day—1st Saturday in December from 6:00 p.m. to 8:30 p.m. CST.

Regulated Area: Tombigbee River from lock 4 to Caldwell Landing.

6. Christmas by the River

Sponsor: Moss Point Active Citizens.

Date: 1 Day—1st Saturday in December from 5:00 p.m. to 7:30 p.m. CST.

Regulated Area: Escataba River from bridge 613 to Moss Point City Docks.

7. Christmas on the Water

Sponsor: Biloxi Bay Chamber of Commerce.

Date: 1 Day—1st Saturday in December.

Regulated Area: Biloxi Channel from marker 5 to marker 28, Biloxi, MS.

8. Isle of Capri Anniversary Celebration

Sponsor: River Boat Corporation (Isle of Capri).

Date: 1 Day—August 1st from 8:45 p.m. to 10:00 p.m. CST.

Regulated Area: Mississippi Sound just South of Biloxi Ocean Springs Bridge, Biloxi, MS.

9. Billy Bowlegs Pirate festival gs Pirate Festival

Sponsor: Greater Fort Walton Beach Chamber of Commerce.

Date: 1 Day—1st weekend in June.

Regulated Area: Santa Rosa Sound, East of the Brooks Bridge to Fort Walton Yacht Club at Smack Pt., west to St. Simons Church.

10. Dauphin Island Race

Sponsor: Fairhope, Lake Forest, Mobile, and Buccaneer Yacht Clubs.

Date: 1 Day—Next to last or last weekend in April.

Regulated Area: Mobile Bay, Middle Bay Light to Marker #37, Mobile, AL.

11. Big River Blast

Sponsor: City of Chattahoochee.

Date: 1 Day—3rd weekend in April from 11:00 a.m. to 6:00 p.m. CST.

Regulated Area: Appalachicola River from the dam to quarter mile south of the dam, Chattahoochee, FL.

12. Chattahoochee Challenge

Sponsor: City of Chattahoochee.

Date: 1 Day—Last weekend in March from 11:00 a.m. to 6:00 p.m. CST.

Regulated Area: Appalachicola River from the dam to half a mile south of the dam, Chattahoochee, FL.

13. Harbor Walk Fireworks Display

Sponsor: Legendary Incorporated.

Date: Every Thursday evening from May to September, Memorial Day and Labor Day, from 8:00 p.m. to 8:30 p.m. CST.

Regulated Area: East Pass, 560 foot safety radius around barge, Destin, FL.

14. Smoking the Sound

Sponsor: Biloxi Bay Chamber of Commerce.

Date: 2 Days—Between the 4th week in March and the 2nd week in April from 9:00 a.m. to 6:00 p.m. CST.

Regulated Area: from bouy # 2 to # 35 in Biloxi Ship Channel.

15. Christmas Afloat

Sponsor: Christmas Afloat Incorporated.

Date: 1 Day—2nd or 3rd Saturday in December.

Regulated Area: Warrior River mile 341, Tuscaloosa County, AL.

16. Air Sea Rescue

Sponsor: Gulf Coast Shows.

Date: 1 Day—3rd or 4th weekend in February.

Regulated Area: Mobile River half a mile down river and half a mile upriver from the Mobile Convention Center.

17. Blessing of the Fleet

Sponsor: St. Michael's Catholic Church.

Date: 1 Day—1st Sunday in June.

Regulated Area: Entire Biloxi Channel, Biloxi, MS.

18. Blessing of the Fleet

Sponsor: St. Margaret Church.

Date: 1 Day—2nd or 3rd Sunday in May.

Regulated Area: Entire Bayou La Batre, Bayou La Batre, AL.

19. Flag Day Parade

Sponsor: Warrior River Boating Association.

Date: 1 Day—July 3rd.

Regulated Area: Warrior River Bankhead Lake River miles 368.4-386.4, Cottondale, AL.

20. Blue Angels Air Show

Sponsor: Naval Air Station Pensacola.

Date: 1 Day—2nd weekend in July.

Regulated Area: A 5 nautical mile radius from a center point located 1500 feet out from the Pensacola Beach shoreline in front of the Pensacola Beach water tank, Pensacola Beach, FL.

21. Boat Parade of Lights

Sponsor: City of Panama City/ St. Andrews Project.

Date: 1 Day—2nd Saturday in December from 5:30 to 7:30.

Regulated Area: St. Andrews Bay from St. Andrews Bay Yacht Club to St. Andrews Bay Marina.

22. Mardi Gras Boat Parade

Sponsor: Gulf Shores Homeport Marina.

Date: 1 Day—Monday before Mardi Gras Fat Tuesday.

Regulated Area: GIWW Pen Mobile Channel from Homeport Marina to Sailboat Bay.

23. Blessing of the Fleet

Sponsor: Panama City Marina.

Date: 1 Day—Last Saturday in March.

Regulated Area: Panama City Marina to east end of seawall.

24. Mobile Boat and Sportsman Show

Sponsor: Gulf Coast Shows.

Date: 4 Days—3rd or 4th weekend of February.

Regulated Area: Mobile River, ½ mile upriver and ½ mile down river from the Mobile Convention Center.

25. Bass Tournament Weigh-In

Sponsor: Gulf Coast Shows.

Date: 2 Days—3rd or 4th weekend in February.

Regulated Area: Mobile River, ½ mile upriver and ½ mile down river from the Mobile Convention Center.

26. Water Ski Demonstration

Sponsor: Gulf Coast Shows.

Date: 1 Day—3rd or 4th weekend in February.

Regulated Area: Mobile River, ½ mile upriver and ½ mile down river from the Mobile Convention Center.

Dated: May 21, 2008.
J.R. Whitehead,
Rear Admiral U.S. Coast Guard Commander, Eighth Coast Guard District.

[FR Doc. E8-13272 Filed 6-13-08; 8:45 am]

BILLING CODE 4910-15-P